DEPARTMENT OF JUSTICE

Antitrust Division

Notice Pursuant to the National Cooperative Research and Production Act of 1993—Z-Wave Alliance

Notice is hereby given that, on July 15, 2024, pursuant to section 6(a) of the National Cooperative Research and Production Act of 1993, 15 U.S.C. 4301 et seq. (“the Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, EcoDim, Doetinchem, Gelderland, NETHERLANDS; Hank Smart Tech Co. Ltd., Shenzhen, PEOPLE'S REPUBLIC OF CHINA; Leak Intelligence LLC, Franklin, TN; M2M Services, Hoofddorp, NETHERLANDS; Keaton Chia (University of California, San Diego (Kleissl Lab)), La Jolla, CA; B-Smartfoils, Rauenberg, GERMANY; HAB Home Intelligence, Arlington, TX; Shenzhen Neo Electronics Co., Ltd., Shenzhen, PEOPLE'S REPUBLIC OF CHINA; Shenzhen Sunricher Technology Limited, Shenzhen, PEOPLE'S REPUBLIC OF CHINA; and Springs Window Fashions, LLC, Middleton, WI, have been added as parties to the venture.

Also, Atsumi Electric, Shizuoka, JAPAN; B-Smart Integration, Rauenberg, GERMANY; GOAP Racunalniski inzeniring in avtomatizacija procesov d.o.o. Nova Gorica, Solkan, SLOVENIA; Shenzhen Shyugj Technology Co., Ltd., Guangdon, PEOPLE'S REPUBLIC OF CHINA; ZoneSystems.est, Khobar City, SAUDI ARABIA; and Ochsner Clinic Foundation, New Orleans, LA, have withdrawn as parties to the venture.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on June 14, 2024. A notice was published in the Federal Register pursuant to section 6(b) of the Act on July 29, 2024 (89 FR 60918).

Suzanne Morris,
Deputy Director Civil Enforcement Operations, Antitrust Division.

[FR Doc. 2024-23595 Filed 10-10-24; 8:45 am]

BILLING CODE P